DEPARTMENT OF ENERGY

Federal Energy Regulatory Commission

Combined Notice of Filings #1

Take notice that the Commission received the following electric rate filings:

Docket Numbers: ER10-2480-003.

Applicants: Berkshire Power Company, LLC.

Description: Order No. 697 Triennial Compliance Filing of Berkshire Power Company, LLC.

Filed Date: 6/30/14.

Accession Number: 20140630-5322.

Comments Due: 5 p.m. ET 8/29/14.

Docket Numbers: ER10-2603-006.

Applicants: Rumford Paper Company.

Description: Rumford Paper Company Market-Based Rate Tariff to be effective 7/1/201.

Filed Date: 6/30/14.

Accession Number: 20140630-5142.

Comments Due: 5 p.m. ET 7/21/14.

Docket Numbers: ER10-2924-004.

Applicants: Kleen Energy Systems, LLC.

Description: Order No. 697 Triennial Compliance Filing of Kleen Energy Systems, LLC.

Filed Date: 6/30/14.

Accession Number: 20140630-5316.

Comments Due: 5 p.m. ET 8/29/14.

Docket Numbers: ER10-2959-005; ER10-2934-004.

Applicants: Chambers Cogeneration Limited Partnership, Logan Generating Company, LP.

Description: Order No. 697 Triennial Compliance Filing of Chambers Cogeneration, Limited Partnership, et al. et al.

Filed Date: 6/30/14.

Accession Number: 20140630-5325.

Comments Due: 5 p.m. ET 8/29/14.

Docket Numbers: ER10-2961-004; ER10-2950-004.

Applicants: Edgecombe Genco, LLC, Spruance Genco, LLC.

Description: Order No. 697 Triennial Compliance Filing of Edgecombe Genco, LLC, et al.

Filed Date: 6/30/14.

Accession Number: 20140630-5324.

Comments Due: 5 p.m. ET 8/29/14.

Docket Numbers: ER10-2964-005; ER11-2041-005; ER11-2042-005; ER10-3193-004.

Applicants: Innovative Energy Systems, Seneca Energy II, LLC, Selkirk Cogen Partners, L.P., Brooklyn Navy Yard Cogeneration Partners.

Description: Order No. 697 Triennial Compliance Filing of Selkirk Cogen Partners, L.P., et al.

Filed Date: 6/30/14.

Accession Number: 20140630-5323.

Comments Due: 5 p.m. ET 8/29/14.

Docket Numbers: ER10-3069-005; ER10-3070-005.

Applicants: Alcoa Power Generating Inc., Alcoa Power Marketing LLC.

Description: Southeast Triennial Update of the Alcoa Companies.

Filed Date: 6/30/14.

Accession Number: 20140630-5326.

Comments Due: 5 p.m. ET 8/29/14.

Docket Numbers: ER13-343-002; ER13-342-004.

Applicants: CPV Shore, LLC, CPV Maryland, LLC.

Description: Order No. 697 Triennial Compliance Filing and Limited Request for Privileged Treatment of CPV Maryland, LLC, et al.

Filed Date: 6/30/14.

Accession Number: 20140630-5321.

Comments Due: 5 p.m. ET 8/29/14.

Docket Numbers: ER14-2087-003.

Applicants: Appalachian Power Company.

Description: OATT—Revise Attachments K & L, TCC Rate Cleanup to be effective 12/31/9998.

Filed Date: 6/30/14.

Accession Number: 20140630-5283.

Comments Due: 5 p.m. ET 7/21/14.

Docket Numbers: ER14-2090-001.

Applicants: Florida Power & Light Company.

Description: Errata to FPL and Seminole Rate Schedule No. 327 to be effective 5/31/2014.

Filed Date: 6/30/14.

Accession Number: 20140630-5297.

Comments Due: 5 p.m. ET 7/21/14.

Docket Numbers: ER14-2318-000.

Applicants: Portland General Electric Company.

Description: Att A1-B Sec 4-23 Sched 4 Filing to be effective 7/1/2014.

Filed Date: 6/30/14.

Accession Number: 20140630-5234.

Comments Due: 5 p.m. ET 7/21/14.

Docket Numbers: ER14-2319-000.

Applicants: Duke Energy Florida, Inc.

Description: Southeast Triennial Filing 2014 to be effective 3/1/2014.

Filed Date: 6/30/14.

Accession Number: 20140630-5235.

Comments Due: 5 p.m. ET 8/29/14.

Docket Numbers: ER14-2320-000.

Applicants: Portland General Electric Company.

Description: Att M and M1 Compliance Filing to be effective 9/1/2014.

Filed Date: 6/30/14.

Accession Number: 20140630-5237.

Comments Due: 5 p.m. ET 7/21/14.

Docket Numbers: ER14-2321-000.

Applicants: Duke Energy Progress, Inc.

Description: Southeast Triennial Filing 2014 to be effective 3/1/2014.

Filed Date: 6/30/14.

Accession Number: 20140630-5238.

Comments Due: 5 p.m. ET 8/29/14.

Docket Numbers: ER14-2322-000.

Applicants: Chestnut Flats Lessee, LLC.

Description: Triennial Market Power Update for the Northeast Region for Chestnut Flats Lessee to be effective 7/1/2014.

Filed Date: 6/30/14.

Accession Number: 20140630-5244.

Comments Due: 5 p.m. ET 8/29/14.

Docket Numbers: ER14-2323-000.

Applicants: Duke Energy Carolinas, LLC.

Description: Southeast Triennial Filing 2014 to be effective 3/1/2014.

Filed Date: 6/30/14.

Accession Number: 20140630-5256.

Comments Due: 5 p.m. ET 8/29/14.

Docket Numbers: ER14-2324-000.

Applicants: Wisconsin Electric Power Company.

Description: Wisconsin Electric FERC Electric Tariff Volume No. 9 2014 update to be effective 8/29/2014.

Filed Date: 6/30/14.

Accession Number: 20140630-5260.

Comments Due: 5 p.m. ET 7/21/14.

Docket Numbers: ER14-2325-000.

Applicants: Mosic Fertilizer, LLC.

Description: FERC ELECTRIC TARIFF, VOLUME NO. 1 to be effective 6/30/2014.

Filed Date: 6/30/14.

Accession Number: 20140630-5261.

Comments Due: 5 p.m. ET 7/21/14.

Docket Numbers: ER14-2326-000.

Applicants: Entergy Nuclear FitzPatrick, LLC

Description: Entergy Nuclear Fitzpatrick, LLC, Market Power Update and Tariff Revisions to be effective 8/29/2014.

Filed Date: 6/30/14.

Accession Number: 20140630-5263.

Comments Due: 5 p.m. ET 8/29/14.

Docket Numbers: ER14-2327-000.

Applicants: Entergy Nuclear Generation Company.

Description: Entergy Nuclear Generating Company Market Power Update and Tariff Revisions to be effective 8/29/2014.

Filed Date: 6/30/14.

Accession Number: 20140630-5265.

Comments Due: 5 p.m. ET 8/29/14.

Docket Numbers: ER14-2328-000.

Applicants: Entergy Nuclear Indian Point 2, LLC.

Description: Entergy Nuclear Indian Point 2, LLC, Market Power Update and Tariff Revisions to be effective 8/29/2014.

Filed Date: 6/30/14.

Accession Number: 20140630-5266.

Comments Due: 5 p.m. ET 8/29/14.

Docket Numbers: ER14-2329-000.

Applicants: Entergy Nuclear Indian Point 3, LLC.

Description: Entergy Nuclear Indian Point 3, LLC, Market Power Update and Tariff Revisions to be effective 8/29/2014.

Filed Date: 6/30/14.

Accession Number: 20140630-5267.

Comments Due: 5 p.m. ET 8/29/14.

Docket Numbers: ER14-2330-000.

Applicants: Entergy Nuclear Power Marketing, LLC.

Description: Entergy Nuclear Power Marketing, LLC, Market Power Update and Tariff Revisions to be effective 8/29/2014.

Filed Date: 6/30/14.

Accession Number: 20140630-5272.

Comments Due: 5 p.m. ET 8/29/14.

Docket Numbers: ER14-2331-000.

Applicants: Entergy Nuclear Vermont Yankee, LLC.

Description: Entergy Nuclear Vermont Yankee, LLC, Market Power Update and Tariff Revisions to be effective 8/29/2014.

Filed Date: 6/30/14.

Accession Number: 20140630-5273.

Comments Due: 5 p.m. ET 8/29/14.

Docket Numbers: ER14-2332-000.

Applicants: Entergy Rhode Island State Energy, L.P.

Description: Entergy Rhode Island State Energy, LP., Market Power Update and Tariff Revisions to be effective 8/29/2014.

Filed Date: 6/30/14.

Accession Number: 20140630-5277.

Comments Due: 5 p.m. ET 8/29/14.

Docket Numbers: ER14-2333-000.

Applicants: Rushmore Energy, LLC.

Description: Rushmore Energy Market Based Rate Tariff to be effective 7/9/2014.

Filed Date: 6/30/14.

Accession Number: 20140630-5281.

Comments Due: 5 p.m. ET 7/21/14.

Docket Numbers: ER14-2335-000.

Applicants: Appalachian Power Company.

Description: OATT—Revise Attachments K & L, TCC Rate Update R2 to be effective 12/31/9998.

Filed Date: 6/30/14.

Accession Number: 20140630-5290.

Comments Due: 5 p.m. ET 7/21/14.

Docket Numbers: ER14-2336-000.

Applicants: Appalachian Power Company.

Description: OATT—Revise Attachment K, TNC Rate Update to be effective 12/31/9998.

Filed Date: 6/30/14.

Accession Number: 20140630-5294.

Comments Due: 5 p.m. ET 7/21/14.

Docket Numbers: ER14-2337-000.

Applicants: El Paso Electric Company.

Description: Operating Procedure 10 with PNM to be effective 6/1/2014.

Filed Date: 6/30/14.

Accession Number: 20140630-5300.

Comments Due: 5 p.m. ET 7/21/14.

Docket Numbers: ER14-2338-000.

Applicants: Wisconsin Electric Power Company.

Description: Wisconsin Electric and WPPI Rate Schedule FERC No. 90 2014 revisions to be effective 8/29/2014.

Filed Date: 6/30/14.

Accession Number: 20140630-5307.

Comments Due: 5 p.m. ET 7/21/14.

Docket Numbers: ER14-2339-000.

Applicants: Baltimore Gas and Electric Company, PJM Interconnection, L.L.C.

Description: BGE submits revisions to the PJM OATT adding a Attachment M-2 for BGE to be effective 9/1/2014.

Filed Date: 6/30/14.

Accession Number: 20140630-5308.

Comments Due: 5 p.m. ET 7/21/14.

Docket Numbers: ER14-2340-000.

Applicants: PECO Energy Company, PJM Interconnection, L.L.C.

Description: PECO submits revisions to the PJM OATT adding Attachment M-2 for PECO to be effective 9/1/2014.

Filed Date: 6/30/14.

Accession Number: 20140630-5309.

Comments Due: 5 p.m. ET 7/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2014.
Nathaniel J. Davis, Sr.,
Deputy Secretary.

[FR Doc. 2014-16025 Filed 7-8-14; 8:45 am]

BILLING CODE 6717-01-P